DEPARTMENT OF COMMERCE

National Oceanic and Atmospheric Administration

RIN 0648-XE971

Caribbean Fishery Management Council; Public Meetings

AGENCY: National Marine Fisheries Service (NMFS), National Oceanic and Atmospheric Administration (NOAA), Commerce.

ACTION: Notice of scoping meetings on Federal permits to harvest queen snapper and cardinal snapper (Snapper Unit 2) from Puerto Rico EEZ waters.

SUMMARY: The Caribbean Fishery Management Council is considering establishing federal permits to harvest queen snapper and cardinal snapper (Snapper Unit 2) from Puerto Rico EEZ waters and is conducting scoping meetings to obtain public comments regarding this matter.

Dates and Addresses

November 14, 2016, 7 p.m.-10 p.m.—Corporación de Pescadores Unidos, Playa Húcares, Sector El Morillo, Carr. #3 Km. 65.9, Naguabo, Puerto Rico;

November 15, 2016, 7 p.m.-10 p.m.—Mayagüez Holiday Inn, 2701 Hostos Avenue, Mayagüez, Puerto Rico

FOR FURTHER INFORMATION CONTACT: Caribbean Fishery Management Council, 270 Muñoz Rivera Avenue, Suite 401, San Juan, Puerto Rico 00918-1903, telephone: (787) 766-5926.

SUPPLEMENTARY INFORMATION: The goal of these scoping meetings is to allow the public to comment on the options listed below and to provide alternative options not yet considered by the Council and NMFS, on federal permits to harvest queen snapper and cardinal snapper (Snapper Unit 2) from Puerto Rico EEZ waters.

Actions and Alternatives

Action 1: Establish a commercial permit to harvest queen snapper and cardinal snapper (Snapper Unit 2 [SU2]) from the Puerto Rico exclusive economic zone (EEZ).

Option 1 (No Action): Do not require a commercial permit for harvest of queen snapper and cardinal snapper from the Puerto Rico EEZ.

Option 2: Require a commercial permit for harvest of queen snapper and cardinal snapper from the Puerto Rico EEZ. If Option 2 is selected, the Council must also select Option 3, 4, or 5.

Sub-option A: Establish an open access commercial permit for harvest of queen snapper and cardinal snapper from the Puerto Rico EEZ, with no limit on the number of permits that may be issued.

Sub-option B: Establish a limited entry commercial permit for harvest of queen snapper and cardinal snapper from the Puerto Rico EEZ in which, following some period of eligibility, no new permits would be issued. If this sub-option is chosen, guidelines for transferring permits would need to be established.

Option 3: Recognize the Puerto Rico Department of Natural and Environmental Resources (PRDNER) commercial queen snapper and cardinal snapper harvest permit as the required commercial permit for harvest of queen snapper and cardinal snapper in the Puerto Rico EEZ.

Option 4: Require a federal permit as the required commercial permit for harvest of queen snapper and cardinal snapper from the Puerto Rico EEZ.

Sub-option A: The required federal permit would be assigned to the individual fisher or to their business, and therefore valid regardless of the vessel from which the fisher is operating.

Sub-option B: The required federal permit would be assigned to a vessel and therefore valid for all licensed fishers operating from that vessel.

Option 5: Require either the Puerto Rico commercial queen snapper and cardinal snapper harvest permit, or a separate federal commercial SU2 harvest permit, for commercial harvest of queen snapper and cardinal snapper from the Puerto Rico EEZ.

Action 2: Permit eligibility.

Option 1 (No Action): Do not establish eligibility requirements for obtaining a commercial permit to harvest queen snapper and cardinal snapper from the Puerto Rico EEZ.

Option 2: Require the applicant for a commercial permit to harvest queen snapper and cardinal snapper from the Puerto Rico EEZ to hold a valid commercial license to fish in the U.S. EEZ.

Option 3: Require the applicant for a commercial permit to harvest queen snapper and cardinal snapper from the Puerto Rico EEZ to provide proof of previous queen snapper or cardinal snapper harvest activity during a specific period of time.

Sub-option A: Use the most recent three years of reported commercial landings of queen snapper and/or cardinal snapper to determine eligibility.

Sub-option B: Require the fisher to provide evidence of commercial queen snapper and/or cardinal snapper landings for at least three of the most recent five years for which landings data are available.

Sub-option C: Other.

Option 4: Require the applicant for a commercial permit to harvest queen snapper and cardinal snapper from the Puerto Rico EEZ to provide proof of average annual landings of queen snapper and cardinal snapper during the specific period of time identified in Option 3.¹

¹ Choosing Option 4 assumes that Option 3 was first chosen.

Sub-option A: Minimum reported average annual landings of x pounds whole weight.

Sub-option B: Minimum reported average annual landings of y pounds whole weight.

Sub-option C: Minimum reported average annual landings of z pounds whole weight.

Option 5: Other/Alternate Eligibility Requirements?

Action 3: Allowable gear.

Option 1 (No Action): Do not define allowable gear for commercial harvest of queen snapper and cardinal snapper from Puerto Rico EEZ waters.

Option 2: Define the allowable gear for commercial harvest of queen snapper and cardinal snapper from Puerto Rico EEZ waters.

Sub-option A: Manual hook-and-line (no power retrieval).

Sub-option B: Bandit gear.

Sub-option C: Other.

Action 4: Allowable number of fishing trips.

Option 1 (No Action): Do not specify a maximum number of allowable fishing trips per year for commercial harvest of queen snapper and cardinal snapper from the Puerto Rico EEZ.

Option 2: Specify a maximum number of allowable fishing trips per year for commercial harvest of queen snapper and cardinal snapper from the Puerto Rico EEZ.

Sub-option A: x trips.

Sub-option B: y trips.

Sub-option C: z trips.

Sub-option D: Other.

Action 5: Commercial trip limits.

Option 1 (No Action): Do not specify a commercial trip limit for queen snapper and cardinal snapper harvested from the Puerto Rico EEZ.

Option 2: Specify a commercial trip limit (in pounds) for queen snapper and cardinal snapper harvested from the Puerto Rico EEZ.

Sub-option A: x pounds whole weight.

Sub-option B: y pounds whole weight.

Sub-option C: z pounds whole weight.

Sub-option D: Other.

Action 6: * Reporting method for fishers commercially permitted to harvest queen snapper and cardinal snapper from the Puerto Rico EEZ.

Option 1 (No Action): Do not establish a method to report landings of queen snapper and cardinal snapper from the Puerto Rico EEZ. PRDNER requires commercial catch reporting forms be used to report commercial harvest of queen snapper and cardinal snapper from Puerto Rico territorial and EEZ waters. Forms can be submitted in-person, by fax, or by email.

Option 2: Require permitted commercial fishers to report landings of queen snapper and cardinal snapper from the Puerto Rico EEZ using a form specifically designed for this purpose. Forms can be submitted in-person, by fax, or by email.

Option 3: Require fishers to record and report landings of queen snapper and cardinal snapper from the Puerto Rico EEZ using an electronic methodology. Forms will be submitted electronically via a pre-established communications conduit.

Option 4: Allow fishers reporting landings of queen snapper and cardinal snapper from the Puerto Rico EEZ to choose between the PRDNER commercial catch reporting form or an electronic reporting method.

* Note—Fishers permitted to harvest queen snapper and cardinal snapper from the Puerto Rico EEZ, who also harvest queen snapper and cardinal snapper from territorial waters, would be required to report landings from both areas.

Action 7: Frequency of reporting for fishers permitted to harvest queen snapper and cardinal snapper from Puerto Rico EEZ waters.

Option 1 (No Action): Do not specify a frequency for submitting landings reports of queen snapper and cardinal snapper. Puerto Rico requires that fishers submit landings reports of commercially harvested queen snapper and cardinal snapper from territorial waters within 60 days of the fishing activity.

Option 2: Require fishers permitted to harvest queen snapper and cardinal snapper from the Puerto Rico EEZ to submit landings reports daily, regardless of fishing activity or lack thereof.

Option 3: Require fishers permitted to harvest queen snapper and cardinal snapper from the Puerto Rico EEZ to submit landings reports within 24 hours following completion of a fishing trip for which queen snapper and cardinal snapper were harvested from the Puerto Rico EEZ.

Option 4: Require fishers permitted to harvest queen snpper and cardinal snapper from the Puerto Rico EEZ to submit landings reports weekly, regardless of fishing activity or lack thereof.

Option 5: Other?

Copy of the Scoping Document can be can be found at the Caribbean Council Web site at caribbeanfmc.com.

Written comments can be sent to the Council not later than November 30, 2016, by regular mail to the address below, or via email to graciela_cfmc@yahoo.com

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: October 19, 2016.
Tracey L. Thompson,
Acting Deputy Director, Office of Sustainable Fisheries, National Marine Fisheries Service.

[FR Doc. 2016-25654 Filed 10-21-16; 8:45 am]

BILLING CODE 3510-22-P